DEPARTMENT OF THE INTERIOR

Bureau of Land Management

[ID-300-2824-DS-PJ04]

Notice of Availability of the Record of Decision for the Fire, Fuels and Related Vegetation Management Direction Plan Amendment

AGENCY: Bureau of Land Management, Interior.

ACTION: Notice of Availability.

SUMMARY: The Bureau of Land Management (BLM) announces the availability of the Record of Decision (ROD) for the Fire, Fuels and Related Vegetation Management Direction Plan Amendment located in south central and southeastern Idaho.

ADDRESSES: Copies of the Fire, Fuels and Related Vegetation Management Direction Plan Amendment ROD are available upon request from the Pocatello Field Office, Bureau of Land Management, 4350 Cliffs Drive, Pocatello, Idaho 83204, phone 208-478-6340, or it can be downloaded in its entirety at http://www.blm.gov/id/st/en/prog/planning/fire_fuels_and_related.html via the Internet.

FOR FURTHER INFORMATION CONTACT: Terry Lee Smith, Project Manager, 4350 Cliffs Drive, Pocatello, Idaho 83204, phone 208-478-6340, e-mail Terry_Lee_Smith@blm.gov.

SUPPLEMENTARY INFORMATION: The Fire, Fuels and Related Vegetation Management Direction Plan Amendment (hereafter referred to as the Plan Amendment) was developed with broad public participation through a five-year collaborative planning process. It addresses management on approximately 5 million acres of public land comprising the Burley, Shoshone, Pocatello and Upper Snake Field Offices in south-central and southeastern Idaho. Twelve land use plans were amended upon signing of the ROD by the Idaho State Director.

The Plan Amendment incorporates the National Fire Plan's Cohesive Strategy and the Federal Wildland Fire Management Policy of 1995, as revised, into existing BLM land use plans. The purpose of the plan amendments is to:

• Establish fire management guidance, objectives, policies, and management actions;

• Identify resource goals and methods, including desired future condition of the fire-related vegetation resources, and management actions necessary to achieve objectives;

• Form the basis to update fire management plans and integrate them with allotment management plans, wildlife management plans, recreation management plans, Idaho Standards for Rangeland Health and Guidelines for Livestock Grazing, and other applicable plans, to the greatest extent possible; and

• Provide consistent land use plan level direction to enable incremental steps toward a long-term resource goal of conditions that minimize risk to human life and property and maintain or restore vegetation that is resistant to catastrophic wildfire.

The approved Plan Amendment is Alternative E in the Proposed Fire, Fuels and Related Vegetation Management Direction Amendment and Final EIS published in February 2008. The Plan Amendment institutes management direction that will promote the maintenance or restoration of the sagebrush steppe ecosystem and its associated wildlife species, including sage grouse, as well as the maintenance and restoration of forested vegetation types.

All protests received by the BLM regarding the plan amendment have been addressed. No inconsistencies with State or local plans, policies, or programs were identified during the Governor's consistency review of the proposed plan.

Dated: June 19, 2008.
Thomas H. Dyer,
Idaho State Director, Bureau of Land Management.

[FR Doc. E8-17115 Filed 7-24-08; 8:45 am]

BILLING CODE 4310-GG-P